ENVIRONMENTAL PROTECTION AGENCY

[EPA-R04-OAR-2010-0017: FRL-9682-6]

Adequacy Status: South Carolina: Reasonable Further Progress Plan Motor Vehicle Emissions Budget for Transportation Conformity for the Portion of York County, South Carolina Within Charlotte-Gastonia-Rock Hill, North Carolina-South Carolina; 1997 8-Hour Ozone Nonattainment Area

AGENCY: Environmental Protection Agency (EPA).

ACTION: Notice of adequacy.

SUMMARY: In this notice, EPA is notifying the public of its finding that the volatile organic compounds (VOC) motor vehicle emissions budget (MVEB) for the portion of York County, South Carolina that is within the Charlotte-Gastonia-Rock Hill, North Carolina-South Carolina Area (hereafter referred to as the “Charlotte bi-state Area”) Reasonable Further Progress (RFP) plan for the 1997 8-hour ozone National Ambient Air Quality Standard (NAAQS), submitted on August 31, 2007, and supplemented on April 29, 2010, by the South Carolina Department of Health and Environmental Control (SC DHEC) are adequate for transportation conformity purposes. The South Carolina portion of the Charlotte bi-state Area is comprised of a portion of York County, South Carolina. On March 2, 1999, the District of Columbia Circuit Court ruled that submitted state implementation plans (SIPs) cannot be used for transportation conformity determinations until EPA has affirmatively found them adequate. As a result of EPA's finding, the South Carolina portion of the Charlotte bi-state Area must use the VOC MVEB from the submitted RFP plan supplement for the Area for future conformity determinations.

DATES: This adequacy finding for VOC is effective June 21, 2012.

FOR FURTHER INFORMATION CONTACT: Kelly Sheckler, U.S. Environmental Protection Agency, Region 4, Air Planning Branch, Air Quality Modeling and Transportation Section, 61 Forsyth Street SW., Atlanta, Georgia 30303. Ms. Sheckler can also be reached by telephone at (404) 562-9222, or via electronic mail at sheckler.kelly@epa.gov. The finding is available at EPA's conformity Web site: http://www.epa.gov/otaq/stateresources/transconf/adequacy.htm

SUPPLEMENTARY INFORMATION: Today's notice is simply an announcement of findings that EPA has already made. EPA Region 4 sent a letter to SC DHEC on May 25, 2012, stating that the 2008 VOC MVEB in the 1997 8-hour ozone RFP plan for the South Carolina portion of the Charlotte bi-state Area, dated August 31, 2007, and supplemented on April 29, 2010, are adequate. EPA posted the availability of the York County MVEB on EPA's Web site on May 13, 2010, as part of the adequacy process, for the purpose of soliciting comments. The comment period ran from May 13, 2010, through June 14, 2010. EPA's findings have also been announced on EPA's conformity Web site: http://www.epa.gov/otaq/stateresources/index.htm, (once there, click “Transportation Conformity” text icon, then look for “Adequacy Review of SIP Submissions”). The adequate VOC MVEB is provided in the following table:

York County, South Carolina 8-hr Ozone VOC MVEB
| 2008 | 2008
York County ( partial county) VOC MVEB
VOC | 6.053 tons per day | 5,493 kilograms per day

Transportation conformity is required by section 176(c) of the Clean Air Act, as amended in 1990. EPA's conformity rule, 40 CFR part 93, requires that transportation plans, programs and projects conform to state air quality implementation plans and establishes the criteria and procedures for determining whether or not they do. Conformity to a SIP means that transportation activities will not produce new air quality violations, worsen existing violations, or delay timely attainment of the NAAQS.

The criteria by which EPA determines whether a SIP's MVEB are adequate for transportation conformity purposes are outlined in 40 CFR 93.118(e) (4). EPA has described the process for determining the adequacy of submitted SIP budgets in a May 14, 1999, memorandum entitled “Conformity Guidance on Implementation of March 2, 1999 Conformity Court Decision.” EPA has followed this guidance in making this adequacy determination. This guidance is incorporated into EPA's July 1, 2004, final rulemaking entitled “Transportation Conformity Rule Amendments for the New 8-hour Ozone and PM2.5 National Ambient Air Quality Standards and Miscellaneous Revisions for Existing Areas; Transportation Conformity

Rule Amendments: Response to Court Decision and Additional Rule Changes” (See 69 FR 40004). Please note that an adequacy review is separate from the EPA's completeness review, and it also should not be used to prejudge EPA's ultimate approval of the SIP. Even if EPA finds the MVEB adequate, the Agency may later disapprove the SIP.

Within 24 months from the effective date of this notice, the transportation partners will need to demonstrate conformity to the new MVEB if the demonstration has not already been made, pursuant to 40 CFR 93.104(e). See 73 FR 4419 (January 24, 2008).

Authority: 42 U.S.C. 7401 et seq.

Dated: May 29, 2012.
A. Stanley Meiburg,
Acting Regional Administrator, Region 4.

[FR Doc. 2012-13697 Filed 6-5-12; 8:45 am]

BILLING CODE 6560-50-P